DEPARTMENT OF JUSTICE

Amended Notice of Lodging of Proposed Consent Decree Under the Comprehensive Environmental Response, Compensation, and Liability Act

This Notice amends and replaces the original notice published on July 17, 2013, 78 FR 137. Notice is hereby given that on July 9, 2013, the Department of Justice lodged a proposed Consent Decree with the United States District Court for the Southern District of Mississippi, Southern Division in the lawsuit entitled United States of America v. Stewart Gammill III. Civil Action No. 1:12cv134 HSO-RHW.

The United States had filed a complaint against Stewart Gammill (Mr. Gammill) and his spouse Lynn Crosby Gammill (Mrs. Gammill) on April 30, 2012. The complaint alleged claims of the United States against Mr. and Mrs. Gammill under Section 107(a) of the Comprehensive Environmental Response, Compensation and Liability Act, as amended (CERCLA), 42 U.S.C. 9607(a), for recovery of unreimbursed costs incurred by the United States with respect to the Picayune Wood Treating Superfund Site located in Picayune, Pearl River County, Mississippi (the Site). Mr. Gammill is liable as a past owner and operator of Crosby Wood Preserving Company a woodtreating facility on a portion of the Site from 1964 through at least 1970.

The United States has agreed to resolve the claims against Stewart Gammill III on an ability to pay basis. Under the proposed Consent Decree, Mr. Gammill will pay two million dollars ($2,000,000) in no more than two installments with the first installment payment of no less than one million dollars ($1,000,000) due within 60 days of the Decree entry. The subsequent installment payment of the remaining balance is due 120 days after the effective date and shall include an additional sum for interest accrued on the unpaid portion of the principal amount.

Under the proposed Consent Decree, the United States covenants not to sue under CERCLA Sections 106 and 107 subject to statutory reopeners and other reserved rights. The covenants are conditioned upon the satisfactory performance of all obligations under the Consent Decree and upon the veracity and completeness of all financial information provided by Mr. Gammill. The United States is still pursuing its claim against Mrs. Gammill in this action.

The publication of this notice opens a period for public comment on the Consent Decree. Comments should be addressed to the Assistant Attorney General, Environment and Natural Resources Division, and should refer to United States of America v. Stewart Gammill III. Civil Action No. 1:12cv134 HSO-RHW; D.J. Ref. No. 90-11-2-09451/1. All comments must be submitted no later than thirty (30) days after the publication date of this notice. Comments may be submitted either by email or by mail:

| Send them to:
By e-mail | pubcomment-ees.enrd@usdoj.gov.
By mail | Assistant Attorney General, U.S. DOJ—B ENRD, P.O. Box 7611, Washington, DC 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $4.75 (25 cents per page reproduction costs for 19 pages) payable to the United States Treasury.

Henry Friedman,
Assistant Chief, Environmental Enforcement Section, Environment and Natural Resources Division.

[FR Doc. 2013-18191 Filed 7-29-13; 8:45 am]

BILLING CODE 4410-15-P